FEDERAL TRADE COMMISSION

Granting of Request for Early Termination of the Waiting Period Under the Premerger Notification Rules

Section 7A of the Clayton Act, 15 U.S.C. 18a, as added by Title 11 of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
22-NOV-10 | 20100479 | G | R.R. Donnelley & Sons Company.
|  | G | Bowne & Co., Inc.
|  | G | Bowne & Co., inc.
| 20110093 | G | Fidelity National Information Services, Inc.
|  | G | Dr. Romesh Wadhwani.
|  | G | Grove Holdings 2 S.a.R.L.
|  | G | Grove Holdings US, LLC.
| 20110169 | G | IESI-BFC Ltd.
|  | G | Fred Weber, Inc.
|  | G | Weber Gas Energy, LLC.
|  | G | Crown Excel Disposal, LLC.
|  | G | FW Disposal South, LLC.
|  | G | FW Disposal, LLC.
| 20110170 | G | Liberty Dialysis Holdings, Inc.
|  | G | Welsh, Carson, Anderson & Stowe X, L.P.
|  | G | RA Group Holdings, Inc.
| 20110172 | G | Berkshire Fund VII, L.P.
|  | G | Carter's, Inc.
|  | G | Carter's, Inc.
| 20110176 | G | Welsh, Carson, Anderson & Stowe XI, L.P.
|  | G | FS Equity Partners V, L.P.
|  | G | Smile Brands Group Inc.
| 20110180 | G | Richard and Stacey Webb.
|  | G | Charles S. Lupe, Jr.
|  | G | Greensport/Ship Channel Partners, LP.
|  | G | Greensport Management LLC.
| 20110183 | G | Wellspring Capital Partners IV, L.P.
|  | G | Estate of Robert H. Brooks.
|  | G | Hooters of America, Inc.
| 20110196 | G | Barry Diller.
|  | G | Barry Diller.
|  | G | IAC/InterActiveCorp.
| 20110197 | G | Barry Diller.
|  | G | Liberty Media Corporation.
|  | G | IAC/InterActiveCorp.
| 20110199 | G | Thoma Bravo Fund IX, L.P.
|  | G | United Parcel Service, Inc.
|  | G | UPS Logistics Technologies, Inc.
22-NOV-10 | 20110148 | G | Harbinger Capital Partners Special Situations Offshore Fund.
|  | G | Harbinger Group Inc.
| 20110171 | G | Carlisle Companies Incorporated.
|  | G | Hawk Corporation.
|  | G | Hawk Corporation.
| 20110184 | G | Oracle Corporation.
|  | G | Art Technology Group, Inc.
|  | G | Art Technology Group, Inc.
| 20110187 | G | TOYOTA TSUSHO CORPORATION.
|  | G | General Electric Company.
|  | G | EFS Oyster Creek LP, LLC.
| 20110190 | G | Calera Capital Partners IV, LP.
|  | G | William Greenblatt.
|  | G | Sterling Infosystems, Inc.
| 20110191 | G | Wells Fargo & Company.
|  | G | The A. Eugene Brockman Charitable Trust, St. John's Trust.
|  | G | Bluepointe Holding Co.
| 20110193 | G | Marubeni Corporation.
|  | G | BP p.l.c.
|  | G | BP Exploration & Production, Inc.
| 20110194 | G | Tilman J. Fertitta.
|  | G | The Hillman Company.
|  | G | Bubba Gump Shrimp Co. Restaurants, Inc.
| 20110195 | G | MIP Waste Holdings, L.P.
|  | G | Marlin HoldCo LP.
|  | G | Marlin HoldCo LP.
| 20110204 | G | Marco Antonio Stefanini.
|  | G | TechTeam Global, Inc.
|  | G | TechTeam Global, Inc.
| 20110210 | G | Munchener Ruckversicherungs-Gesellschaft Aktiengesellschaft.
|  | G | Windsor Health Group, Inc.
|  | G | Windsor Health Group, Inc.
24-NOV-10 | 20110158 | G | Fairfax Financial Holdings Limited.
|  | G | First Mercury Financial Corporation.
|  | G | First Mercury Financial Corporation.
| 20110179 | G | Achilles Holdings 1 S.A.R.L.
|  | G | Brit Insurance Holdings N.V.
|  | G | Brit Insurance Holdings N.V.
| 20110202 | G | Chesapeake Energy Corporation.
|  | G | Energy Spectrum Partners IV LP.
|  | G | Forrest Rig, L.L.C.
| 20110203 | G | John Reilly.
|  | G | Croydon Corporation.
|  | G | Croydon Corporation.
| 20110219 | G | Pinova Holdings, Inc.
|  | G | LyondellBasell Industries N.V.
|  | G | LyondellBasell Flavors & Fragrances, LLC
26-NOV-10 | 20110157 | G | Windstream Corporation
|  | G | ABRY Partners VI, L.P.
|  | G | Hosted Solutions Acquisition, LLC.
29-NOV-10 | 20101203 | G | TransDigm Group Incorporated
|  | G | JLL Partners Fund V, L.P.
|  | G | McKechnie Aerospace Holdings, Inc.
| 20110161 | G | Stryker Corporation
|  | G | Boston Scientific Corporation.
|  | G | Boston Scientific Corporation.
| 20110206 | G | PAI Partners S.AS.
|  | G | Ferrovial, SA.
|  | G | Swissport International A.G.
| 20110224 | G | Arrow Electronics, Inc.
|  | G | Paul Milstein Revocable 1998 Trust.
|  | G | Intechra Group, LLC.
| 20110226 | G | Linsalata Capital Partners Fund V, LP.
|  | G | Whitcraft LLC.
|  | G | Whitcraft LLC.
| 20110228 | G | Wynnchurch Capital Partners II, L.P.
|  | G | Alexander P. Coleman.
|  | G | JAC Holding Corporation.
| 20110233 | G | Friedman Fleisher & Lowe Capital Partners III, LP.
|  | G | Linsalata Capital Partners Fund V, L.P.
|  | G | Transtar Holding Company.
30-NOV-10 | 20110177 | G | Sonic Healthcare Limited.
|  | G | CBLPath Holdings Corporation.
|  | G | CBLPath Holdings Corporation.
| 20110249 | G | The Williams Companies, Inc.
|  | G | Cabot Oil & Gas Corporation.
|  | G | Cabot Oil & Gas Corporation.
01-DEC-10 | 20110189 | G | Amazon.com, Inc.
|  | G | Hungry Machine, Inc. d/b/a Living Social
|  | G | Hungry Machine, Inc.
02-DEC-10 | 20110212 | G | Right Choice Credit Union,
|  | G | First Service Credit Union.
|  | G | First Service Credit Union.
| 20110223 | G | USPF III Leveraged Feeder, L.P.
|  | G | Peter H. Zeliff, Sr.
|  | G | Innovative Energy Systems, LLC.
|  | G | In Modern Innovative Energy, LLC.
|  | G | In Model City Energy, LLC.
|  | G | In Zeliff Holdings, Inc.
| 20110230 | G | Clayton, Dubilier & Rice Fund VIII, L.P.
|  | G | Tyco International Ltd.
|  | G | Atkore International Group Inc.
| 2011244 | G | TPG VI Ontario 1 AIV, L.P.
|  | G | MacDonald, Dettwiler and Associates Ltd.
|  | G | Wertweiser GmbG.
|  | G | MacDonald Dettwiler Info. Tech, Services Ltd. Liability Co.
|  | G | MD Information Services (Luxembourg) S.A.
|  | G | MacDonald, Dettwiler and Limited (UK).
|  | G | MacDonald, Dettwiler and Limited (Ireland).
|  | G | Marshall & SwiftfBoeckh (Canada) Ltd.
|  | G | MDA Access BC Ltd.
|  | G | MacDonald Detiwiler and Associates Corp.
| 20110248 | G | Rhone Partners III L.P.
|  | G | Audax Private Equity Fund II, L.P.
|  | G | UI Sealing Technologies Intermediate Holdings, Inc.
03-DEC-10 | 20110182 | G | Berkshire Hathaway Inc.
|  | G | Mr. Thomas E. Bernard.
|  | G | Horizon Wine and Spirits-Nashville, Inc.
|  | G | Horizon Wine and Spirits-Chattanooga, Inc.
| 20110185 | G | Excellere Partners.
|  | G | The SV Partners Limited Partnership.
|  | G | AxelaCare Health Solutions, LLC.
| 20110234 | G | Cintas Corporation.
|  | G | Brynwood Partners V L.P.
|  | G | Metro Door, Inc.
| 20110236 | G | Patricia's Trust u/t Kocourek 1994 FT u/a/d Dec 31, 1994.
|  | G | Stonehenge Opportunity Fund, LLC.
|  | G | Cello-Poly LLC.
|  | G | Plastic Packaging Technologies, LLC.
| 20110242 | G | Linsalata Capital Partnes Fund V, L.P.
|  | G | Cortec Group Fund III, L.P.
|  | G | RF Medical Holdings, Inc.
| 20110253 | G | Summit Partners Private Equity Fund VII-A, L.P.
|  | G | John and Susan Ocampo.
|  | G | M/A-COM Technology Solutions Holdings, Inc.
| 20110263 | G | Arsenal Capital Partners QP II LP.
|  | G | John W. Jordan, III.
|  | G | Para-Chem Southern, Inc.
| 20110265 | G | Bank of America Corporation.
|  | G | Powersport Auctioneer Holdings, LLC.
|  | G | Powersport Auctioneer Holdings, LLC.
| 20110269 | G | Religare Enterprises Limited.
|  | G | Landmark Partners, Inc-CT.
|  | G | Landmark Partners, LLC.
| 20110273 | G | ICV Partners II, L.P.
|  | G | Cargo Airport Services U.S.A. LLC.
|  | G | Cargo Airport Services U.S.A. LLC.
| 20110275 | G | TPG Star, L.P.
|  | G | ZS VPSI, L.P.
|  | G | VPSI, Inc.
|  | G | VPSI, L.L.C.
| 20110276 | G | Alliant Techsystems Inc.
|  | G | Sentinel Capitai Partners IV, L.P.
| 20110290 | G | North American Rescue, LLC.
|  | G | Ascent Media Corporation.
|  | G | ABRY Partners IV, LP.
|  | G | Monitronics International, Inc.
| 20110298 | G | Charlesbank Equity Fund VII, Limited Partnership.
|  | G | Behrman Capital III L.P.
|  | G | Peacock Holding Company, Inc.

FOR FURTHER INFORMATION CONTACT: Sandra M. Peay, Contact Representative or Renee Chapman, Contact Representative, Federal Trade Commission, Premerger Notification Office, Bureau of Competition, Room H-303, Washington, DC 20580, (202) 326-3100.

By Direction of the Commission.
Donald S. Clark,
Secretary.

[FR Doc. 2010-31092 Filed 12-10-10; 8:45 am]

BILLING CODE 6750-01-M